DEPARTMENT OF TRANSPORTATION

Surface Transportation Board

[STB Ex Parte No. 290 (Sub-No. 4)]

Railroad Cost Recovery Procedures—Productivity Adjustment

AGENCY: Surface Transportation Board.

ACTION: Adoption of a railroad cost recovery procedures productivity adjustment.

SUMMARY: By decision served on February 1, 2010, the Board proposed to adopt 1.010 (1.0% per year) as the 2008 productivity adjustment, as measured by the average change in railroad productivity for the years 2004 through 2008. The February 1, 2010 decision provided an opportunity to file comments regarding any perceived data and computational errors in the Board's calculation. The Board's decision also stated that the proposed productivity adjustment would become effective on March 1, 2010, unless the Board issued a further order postponing the effective date.

On February 22, 2010, the Board received timely comments from the Western Coal Traffic League (WCTL) regarding the output index calculation for 2008. To allow for adequate consideration of WCTL's comments, the Board issued a decision on February 26, 2010, postponing the effective date of the 2008 productivity adjustment pending further order of the Board.

In its comments, WCTL questioned the 2008 output index as compared to the 2007 output index. In response to WCTL's comments, we reviewed the calculations for the output indices for both of those years. This review revealed the inadvertent use of masked revenues from the waybill records in both the 2007 and 2008 calculations, and the exclusion of certain waybill records in the 2007 calculations. Once these errors were discovered and corrected, we verified that the output index calculations for the entire 2004-2008 averaging period used unmasked revenues and did not improperly exclude waybill records.

Accordingly, for the corrected 2008 productivity adjustment, the Board's calculation of the output index for 2007 of 1.014 should be modified to 1.000, and the Board's calculation of the output index for 2008 of 0.967 should be modified to 0.990. As a result, the corrected 5-year geometric mean of the annual change in productivity for the 2004-2008 period is 1.012 (or 1.2% per year).

DATES: The productivity adjustment is effective on March 26, 2010.

FOR FURTHER INFORMATION CONTACT: Michael Smith, (202) 245-0322. Assistance for the hearing impaired is available through the Federal Information Relay Service (FIRS) at 1-800-877-8339.

SUPPLEMENTARY INFORMATION: Additional information is contained in the Board's decision, which is available on our Web site http://www.stb.dot.gov.

This action will not significantly affect either the quality of the human environment or the conservation of energy resources.

Decided: March 26, 2010.
By the Board, Chairman Elliott, Vice Chairman Mulvey, and Commissioner Nottingham.
Jeffrey Herzig,
Clearance Clerk.

[FR Doc. 2010-7270 Filed 3-31-10; 8:45 am]

BILLING CODE 4915-01-P